DEPARTMENT OF TRANSPORTATION

Federal Aviation Administration

14 CFR Part 39

[Docket No. FAA-2013-0462; Directorate Identifier 2013-NM-092-AD; Amendment 39-17476; AD 2013-11-16]

RIN 2120-AA64

Airworthiness Directives; Hawker Beechcraft Corporation (Type Certificate Previously Held by Raytheon Aircraft Company) Airplanes

AGENCY: Federal Aviation Administration (FAA), DOT.

ACTION: Final rule; request for comments.

SUMMARY: We are adopting a new airworthiness directive (AD) for certain Hawker Beechcraft Corporation (Type Certificate Previously Held by Raytheon Aircraft Company) Model BAe.125 Series 800A (including C-29A and U-125), and 800B airplanes; and Model Hawker 800 (including variant U-125A) and 800XP airplanes modified in accordance with a certain winglet supplemental type certificate. This AD requires revising the Limitations section of the airplane flight manual (AFM) and installing placards on the instrument panel. This AD was prompted by reports of several instances of severe vibration and wing/aileron oscillations. We are issuing this AD to prevent vibration and wing/aileron oscillations, which could cause structural damage or lead to divergent flutter, and result in loss of integrity of the wing, loss of control of the airplane, and in-flight breakup.

DATES: This AD is effective July 2, 2013.

The Director of the Federal Register approved the incorporation by reference of a certain publication listed in the AD as of July 2, 2013.

We must receive comments on this AD by August 1, 2013.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this AD, contact Aviation Partners Inc., 7299 Perimeter Road South, Seattle, WA 98108; telephone 800-946-4538; email info@aviationpartners.com; Internet https://www.aviationpartners.com. You may review copies of the referenced service information at the FAA, Transport Airplane Directorate, 1601 Lind Avenue SW., Renton, WA. For information on the availability of this material at the FAA, call 425-227-1221.

Examining the AD Docket

You may examine the AD docket on the Internet at http://www.regulations.gov; or in person at the Docket Management Facility between 9 a.m. and 5 p.m., Monday through Friday, except Federal holidays. The AD docket contains this AD, the regulatory evaluation, any comments received, and other information. The street address for the Docket Office (phone: 800-647-5527) is in the ADDRESSES section. Comments will be available in the AD docket shortly after receipt.

FOR FURTHER INFORMATION CONTACT: Kathleen Arrigotti, Aerospace Engineer, Airframe Branch, ANM-120S, FAA, Seattle Aircraft Certification Office, 1601 Lind Avenue SW., Renton, WA 98057-3356; phone: (425) 917-6426; fax: (425) 917-6590; email: kathleen.arrigotti@faa.gov.

SUPPLEMENTARY INFORMATION:

Discussion

We have received reports of several instances of severe vibration and wing/aileron oscillation due to lack of sufficient flutter margin with winglets installed. This condition, if not corrected, could cause structural damage or lead to divergent flutter, and result in loss of integrity of the wing, loss of control of the airplane, and in-flight breakup.

Relevant Service Information

We reviewed Aviation Partners Service Bulletin SBH-13-001, Revision A, dated May 3, 2013. The service information describes procedures for revising the Limitations section of the AFM to include an altitude restriction, and installing placards on the instrument panel.

FAA's Determination

We are issuing this AD because we evaluated all the relevant information and determined the unsafe condition described previously is likely to exist or develop in other products of the same type design.

AD Requirements

This AD requires accomplishing the actions specified in the service information described previously.

Interim Action

We consider this AD interim action. Aviation Partners Inc. is currently developing a modification that will address the unsafe condition identified in this AD. Once this modification is developed, approved, and available, we may consider additional rulemaking. The modification is expected to remove the altitude restriction.

FAA's Justification and Determination of the Effective Date

An unsafe condition exists that requires the immediate adoption of this AD. The FAA has found that the risk to the flying public justifies waiving notice and comment prior to adoption of this rule because severe vibration and wing/aileron oscillations could cause structural damage or lead to divergent flutter, and result in loss of integrity of the wing, loss of control of the airplane, and in-flight breakup. Therefore, we find that notice and opportunity for prior public comment are impracticable and that good cause exists for making this amendment effective in less than 30 days.

Comments Invited

This AD is a final rule that involves requirements affecting flight safety and was not preceded by notice and an opportunity for public comment. However, we invite you to send any written data, views, or arguments about this AD. Send your comments to an address listed under the ADDRESSES section. Include the docket number FAA-2013-0462 and Directorate Identifier 2013-NM-092-AD at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

We estimate that this AD affects 102 airplanes of U.S. registry.

We estimate the following costs to comply with this AD:

Estimated Costs
Action | Labor cost | Parts cost | Cost per product | Cost on U.S. operators
AFM Revision | 1 work-hour × $85 per hour = $85 | $0 | $85 | $8,670
Placard Installation | 1 work-hour × $85 per hour = $85 | 10 | 95 | 9,690

Authority for This Rulemaking

Title 49 of the United States Code specifies the FAA's authority to issue rules on aviation safety. Subtitle I, section 106, describes the authority of the FAA Administrator. “Subtitle VII: Aviation Programs” describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2013-11-16 Hawker Beechcraft Corporation (Type Certificate Previously Held by Raytheon Aircraft Company): Amendment 39-17476; Docket No. FAA-2013-0462; Directorate Identifier 2013-NM-092-AD.

(a) Effective Date

This AD is effective July 2, 2013.

(b) Affected ADs

None.

(c) Applicability

This AD applies to Hawker Beechcraft Corporation (Type Certificate Previously Held by Raytheon Aircraft Company) Model BAe.125 Series 800A (including C-29A and U-125), and 800B airplanes; and Model Hawker 800 (including variant U-125A) and 800XP airplanes; certificated in any category; modified by Aviation Partners Inc. Supplemental Type Certificate (STC) ST01411SE (http://rgl.faa.gov/Regulatory_and_Guidance_Library/rgstc.nsf/0/1b3a5d9052d875c0862577a700704eb6/$FILE/ST01411SE.pdf).

(d) Subject

Joint Aircraft System Component (JASC)/Air Transport Association (ATA) of America Code 27, Flight Controls; and Code 57, Wings.

(e) Unsafe Condition

This AD was prompted by reports of several instances of severe vibration and wing/aileron oscillation due to lack of sufficient flutter margin with winglets installed. We are issuing this AD to prevent vibration and wing/aileron oscillations, which could cause structural damage or lead to divergent flutter, and result in loss of integrity of the wing, loss of control of the airplane, and in-flight breakup.

(f) Compliance

Comply with this AD within the compliance times specified, unless already done.

(g) Revise the Airplane Flight Manual

Within 45 days after the effective date of this AD: Revise the Limitations section of the airplane flight manual (AFM) by inserting the text specified in figure 1 to paragraph (g) of this AD adjacent to the page which states the Operational Limitations—Maximum Permissible Altitude.

Note 1 to paragraph (g) of this AD: When a statement identical to that in paragraph (g) of this AD has been included in the Limitations section of the general revisions of the AFM, the general revisions may be inserted into the AFM and the statement inserted as required by paragraph (g) of this AD may be removed.

(h) Installation of the Placards

Within 45 days after the effective date of this AD: Install placards on the instrument panel, in accordance with paragraph 3.B. of the Accomplishment Instructions of Aviation Partners Service Bulletin SBH-13-001, Revision A, dated May 3, 2013.

(i) Alternative Methods of Compliance (AMOCs)

(1) The Manager, Seattle Aircraft Certification Office, FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD. Information may be emailed to: 9-ANM-Seattle-ACO-AMOC-Requests@faa.gov.

(2) Before using any approved AMOC, notify your appropriate principal inspector, or lacking a principal inspector, the manager of the local flight standards district office/certificate holding district office.

(j) Related Information

For more information about this AD, contact Kathleen Arrigotti, Aerospace Engineer, Airframe Branch, ANM-120S, FAA, Seattle Aircraft Certification Office, 1601 Lind Avenue SW., Renton, WA 98057-3356; phone: (425) 917-6426; fax: (425) 917-6590; email: kathleen.arrigotti@faa.gov.

(k) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Aviation Partners Service Bulletin SBH-13-001, Revision A, dated May 3, 2013.

(ii) Reserved.

(3) For service information identified in this AD, contact Aviation Partners Inc., 7299 Perimeter Road South, Seattle, WA 98108; telephone 800-946-4538; email info@aviationpartners.com; Internet https://www.aviationpartners.com.

(4) You may review copies of the referenced service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on May 24, 2013.
Jeffrey E. Duven,
Acting Manager, Transport Airplane Directorate, Aircraft Certification Service.

[FR Doc. 2013-14247 Filed 6-14-13; 8:45 am]

BILLING CODE 4910-13-P